DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than April 4, 2000.

ADDRESSES: Submit written comments on any or all of the following proposed activities by mail to either: Mr. Robert Brogan, Office of Safety, Planning and Evaluation Division, RRS-21, Federal Railroad Administration, 1120 Vermont Ave., NW, Mail Stop 17, Washington, DC 20590, or Ms. Dian Deal, Office of Information Technology and Productivity Improvement, RAD-20, Federal Railroad Administration, 1120 Vermont Ave., NW, Mail Stop 35, Washington, DC 20590. Commenters requesting FRA to acknowledge receipt of their respective comments must include a self-addressed stamped postcard stating, “Comments on OMB control number 2130-0500. Alternatively, comments may be transmitted via facsimile to (202) 493-6265 or (202) 493-6170, or E-mail to Mr. Brogan at robert.brogan@fra.dot.gov, or to Ms. Deal at dian.deal@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW, Mail Stop 17, Washington, DC 20590 (telephone: (202) 493-6292) or Dian Deal, Office of Information Technology and Productivity Improvement, RAD-20, Federal Railroad Administration, 1120 Vermont Ave., NW, Mail Stop 35, Washington, DC 20590 (telephone: (202) 493-6133). (These telephone numbers are not toll-free.)

SUPPLEMENTARY INFORMATION: The Paperwork Reduction Act of 1995 (PRA), Pub. L. No. 104-13, § 2, 109 Stat. 163 (1995) (codified as revised at 44 U.S.C. §§ 3501-3520), and its implementing regulations,5 CFR Part 1320, require Federal agencies to provide 60-days notice to the public for comment on information collection activities before seeking approval for reinstatement or renewal by OMB. 44 U.S.C. § 3506(c)(2)(A); 5 CFR §§ 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. § 3506(c)(2)(A)(i)-(iv); 5 CFR § 1320.8(d)(1)(i)-(iv). FRA believes that soliciting public comment will promote its efforts to reduce the administrative and paperwork burdens associated with the collection of information mandated by Federal regulations. In summary, FRA reasons that comments received will advance three objectives: (i) reduce reporting burdens; (ii) ensure that it organizes information collection requirements in a “user friendly” format to improve the use of such information; and (iii) accurately assess the resources expended to retrieve and produce information requested. See 44 U.S.C. § 3501.

Below is a brief summary of currently approved information collection activities that FRA will submit for clearance by OMB as required under the PRA:

Title: Accident/Incident Reporting and Recordkeeping.

OMB Control Number: 2130-0500.

Abstract: The collection of information is due to the railroad accident reporting regulations set forth in 49 CFR Part 225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Form Number(s): FRA F 6180.33; 54; 55; 55A; 56; 57; 78; 81; 97; and 98.

Affected Public: Businesses.

Respondent Universe: 685 railroads.

Frequency of Submission: On occasion

Reporting Burden:

CFR Section | Respondent universe | Total annual responses | Average time per responses | Total annual burden hours | Total annual burden cost
225.21—Railroad Injury and Illness Summary (Form FRA F 6180.55 | 685 railroads | 8,148 forms | 45 minutes | 6,111 hours | $171,108
225.19/21—Form FRA 6180.55A—Continuation Sheet | 685 railroads | 12,000 forms | 30 minutes | 6,000 hours | 168,000
225.21—Rail Equipment Accident/Incident Report—Form FRA F 6180.54 | 685 railroads | 3,000 forms | 3 hours | 9,000 hours | 252,000
225.19/21—Rail-Highway Grade Crossing Accident/Incident Report—Form FRA F 6180.57 | 685 railroads | 3,500 forms | 3 hours | 10,500 hours | 294,000
225.21—Annual Railroad Report of Employee Hours and Casualties, By State—Form FRA F 6180.56 | 685 railroads | 700 forms | 3 hours | 2,100 hours | 58,000
225.9—Telephone Reports of Certain Accidents/Incidents | 685 railroads | 300 phone reports | 15 minutes | 75 hours | 2,100
225.21/25—Railroad Employee Injury and/or Illness Record—Form FRA F 6180.98 | 246 railroads | 30,108 forms | 30 minutes | 15,054 hours | 466,674
—Copies of Forms to Employees | 246 railroads | 903 form copies | 2 minutes | 30 hours | 840
225.25(h)—Posting of Monthly Summary | 685 railroads | 8,220 lists | 16 minutes | 2,192 hours | 61,376
219.209(b)—Doubtful Cases & Refusal to Be Tested; Alcohol or Drug Involvement | 685 railroads | 80 reports | 15 minutes | 20 hours | 560
225.21—Employee Human Factor Attachment—Form FRA F 6180.81 | 685 railroads | 1,013 forms | 15 minutes | 253 hours | 7,084
225.12/21—Notice to Railroad Employee Involved in Rail Equipment Accident/Incident Attributed to Employee Human Factor—Form FRA F 6180.78 (Part I) | 685 railroads | 1,013 notices | 30 minutes | 507 hurs | 14,196
—Employee Statement Supplemental Railroad Accident Report—Form FRA F 6180.78 (Part II) | 685 railroads | 101 statements | 2 hours | 202 hours | 6,262
225.12(C)—Railroad Consultation in Joint Operations Accidents/Incidents | 685 railroads | 30 requests | 1 hour | 30 hours | 840
225.12(g)(3)—Employee Confidential Letter | 30 Employees | 30 letters | 2 hours | 60 hours | 1,860
225.12—Railroad Review of Statement | 685 railroads | 101 supplements/25 reports | 1.5 hours/4 hours | 252 hours | 7,056
225.37—Batch Control Form—FRA F 6180.99 | 8 railroads | 96 forms | 10 minutes | 16 hours | 448
225.21—Initial Rail Equipment Accident/Incident Record—Form FRA F 6180.97 | 433 railroads | 12,095 forms | 30 minutes | 6,048 hours | 169,344
225.33—Internal Control Plans | 246 railroads | 246 contrll plans | Varies | 2,101 hours | 58,828
—Intimidation/Harrassment Policies—Model Statements | 433 railroads | 433 statements | 30 minutes | 217 hours | 6,076
—Subsequent Years—Internal Control Plan | 1 railroad | 1 control plan | 14 hours | 14 hours | 392
—Amendments to Internal Control Plan | 246 railroads | 50 amendments | 1 hour | 50 hours | 1,400
225.25(h)(15)—Written Request by Employee Not to Post their Injury/Illness | 685 railroads | 25 requests | 1 hour | 25 hour | 700

Total Responses: 82,218.

Estimated Total Annual Burden: 60,857 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, D.C. on February 1, 2000.
Margaret B. Reid,
Acting Director Office of Information Technology and Support Systems Federal Railroad Administration.

[FR Doc. 00-2553 Filed 2-3-00; 8:45 am]

BILLING CODE 4910-06-P